DEPARTMENT OF JUSTICE

Drug Enforcement Administration

Manufacturer of Controlled Substances; Notice of Registration

By Notice dated March 9, 2007, and published in the Federal Register on March 23, 2007 (72 FR 13825), Sigma Aldrich Research, Biochemicals, Inc., 1-3 Strathmore Road, Natick, Massachusetts 01760, made application by letter to the Drug Enforcement Administration (DEA) to be registered as a bulk manufacturer of the basic classes of controlled substances listed in schedule I:

Drug | Schedule
Psilocybin (7437) | I
5-Methoxy-N,N-diisopropyltyptamine (7439) | I

The company plans on manufacturing reference standards for research purposes only.

No comments or objections have been received. DEA has considered the factors in Title 21, United States Code (U.S.C.) 823(a) and determined that the registration of Sigma Aldrich Research, Biochemicals, Inc. to manufacture the listed basic class of controlled substance is consistent with the public interest at this time. DEA has investigated Sigma Aldrich Research, Biochemicals, Inc. to ensure that the company's registration is consistent with the public interest. The investigation has included inspection and testing of the company's physical security systems, verification of the company's compliance with state and local laws, and a review of the company's background and history. Therefore, pursuant to Title 21, U.S.C. 823, and in accordance with Title 21, Code of Federal Regulations (CFR) 1301.33, the above named company is granted registration as a bulk manufacturer of the basic class of controlled substance listed.

Dated: August 1, 2007.
Joseph T. Rannazzisi,
Deputy Assistant Administrator, Office of Diversion Control, Drug Enforcement Administration.

[FR Doc. E7-15507 Filed 8-8-07; 8:45 am]

BILLING CODE 4410-09-P